ENVIRONMENTAL PROTECTION AGENCY

40 CFR Part 141

[FRL-7432-6]

Extension of Comment Period for “Notice of Data Availability; National Primary and Secondary Drinking Water Regulations: Approval of Analytical Methods for Chemical and Microbiological Contaminants; Additional Information on the Colitag™ Method''

AGENCY: Environmental Protection Agency (EPA).

ACTION: Proposed rule; notice of data availability—supplemental information; extension of comment period.

SUMMARY: In a March 7, 2002 proposed rule (67 FR 10532), EPA invited comments on the proposed promulgation of a number of a number of analytical methods. One of those methods, Colitag™, was proposed for the analysis of total coliforms and E. coli in finished drinking water samples. EPA since received additional information from CPI International, developers of Colitag™, relative to the performance of this method. Because this additional information served to supplement the data included in the public record that supported the proposed rule, and because the data are relevant to a decision on whether to promulgate Colitag”, EPA invited comments on this additional information via a December 2, 2002 Notice of Data Availability. In today's action, EPA is extending the public comment period for the Notice of Data Availability.

DATES: EPA must receive public comment, in writing, by January 17, 2003.

ADDRESSES: Comments may be submitted electronically, by mail, or through hand delivery/courier. Follow the detailed instructions provided in Unit I, General Information, of the SUPPLEMENTARY INFORMATION section of the December 2, 2002 Notice of Data Availability published in the Federal Register.

FOR FURTHER INFORMATION CONTACT: Herb Bass, Technical Support Center, Standards and Risk Management Division, Office of Ground Water and Drinking Water, Environmental Protection Agency, Mail Stop 140, 26 W. Martin Luther King Drive, Cincinnati, OH 45268, PH: (513) 569-7926. Email: brass.herb@epa.gov.

SUPPLEMENTARY INFORMATION: This document extends the public comment period established in the Federal Register issued on December 2, 2002 (67 FR 71520). In that document, EPA sought comments on additional information provided by CPI International concerning the Colitag™ method, relative to the proposal of this method for the analysis of total coliforms and E. coli in finished drinking water samples. EPA is hereby extending the comment period, which was set to end on January 2, 2003, to January 17, 2003.

To submit comments, or access the official public docket, please follow the detailed instructions as provided in Unit I, General Information, of the SUPPLEMENTARY INFORMATION section of the December 2, 2002 Federal Register document. If you have any questions, consult the person listed in the FOR FURTHER INFORMATION CONTACT section.

Dated: December 23, 2002.
Nanci Gelb,
Acting Director, Office of Ground Water and Drinking Water.

[FR Doc. 02-32886 Filed 12-30-02; 8:45 am]

BILLING CODE 6560-50-P